DEPARTMENT OF ENERGY

Federal Energy Regulatory Commission

Combined Notice of Filings No 1

November 15, 2010.

Take notice that the Commission has received the following Natural Gas Pipeline Rate and Refund Report filings:

Docket Numbers: RP11-1510-000.

Applicants: Transcontinental Gas Pipe Line Company, LLC.

Description: Transcontinental Gas Pipe Line Company, LLC Submits a Request for Waiver of the Commission's Capacity Regulations.

Filed Date: 11/10/2010.

Accession Number: 20101110-5074.

Comment Date: 5 p.m. Eastern Time on Monday, November 22, 2010.

Docket Numbers: RP11-1511-000.

Applicants: Natural Gas Pipeline Company of America, LLC.

Description: Natural Gas Pipeline Company of America LLC submits tariff filing per 154.203: Compliance Filing in Docket No. RP10-1223 to be effective 11/1/2010.

Filed Date: 11/10/2010.

Accession Number: 20101110-5146.

Comment Date: 5 p.m. Eastern Time on Monday, November 22, 2010.

Docket Numbers: RP11-1512-000.

Applicants: White River Hub, LLC.

Description: White River Hub, LLC submits tariff filing per 154.204: WRH Section Tabs to be effective 12/13/2010.

Filed Date: 11/10/2010.

Accession Number: 20101110-5170.

Comment Date: 5 p.m. Eastern Time on Monday, November 22, 2010.

Docket Numbers: RP11-1513-000.

Applicants: Steuben Gas Storage Company.

Description: Steuben Gas Storage Company submits tariff filing per 154.203: Steuben Gas Storage 11-10-2010 filing to be effective 11/10/2010.

Filed Date: 11/10/2010.

Accession Number: 20101110-5173.

Comment Date: 5 p.m. Eastern Time on Monday, November 22, 2010.

Docket Numbers: RP11-1514-000.

Applicants: Questar Overthrust Pipeline Company.

Description: Questar Overthrust Pipeline Company submits tariff filing per 154.204: QOPC Section Headings 2 to be effective 12/13/2010.

Filed Date: 11/10/2010.

Accession Number: 20101110-5174.

Comment Date: 5 p.m. Eastern Time on Monday, November 22, 2010.

Docket Numbers: RP11-1515-000.

Applicants: Questar Southern Trails Pipeline Company.

Description: Questar Southern Trails Pipeline Company submits tariff filing per 154.204: QSTP Section Tabs to be effective 12/13/2010.

Filed Date: 11/12/2010.

Accession Number: 20101112-5000.

Comment Date: 5 p.m. Eastern Time on Wednesday, November 24, 2010.

Docket Numbers: RP11-1516-000.

Applicants: Panther Interstate Pipeline Energy, LLC.

Description: Panther Interstate Pipeline Energy, LLC submits tariff filing per 154.203: Panther Tariff Filing Pursuant to Order on Order No. 587-U Compliance Filing to be effective 11/1/2010.

Filed Date: 11/12/2010.

Accession Number: 20101112-5120.

Comment Date: 5 p.m. Eastern Time on Wednesday, November 24, 2010.

Docket Numbers: RP11-1517-000.

Applicants: American Midstream (AlaTenn), LLC.

Description: American Midstream (AlaTenn), LLC submits AlaTenn Compliance Filing, to be effective 11/1/2010.

Filed Date: 11/12/2010.

Accession Number: 20101112-5128.

Comment Date: 5 p.m. Eastern Time on Wednesday, November 24, 2010.

Docket Numbers: RP11-1518-000.

Applicants: American Midstream (Midla), LLC.

Description: American Midstream (Midla), LLC submits tariff filing per 154.203: Midla Compliance Filing in Docket No. RP10-1268 to be effective 11/1/2010.

Filed Date: 11/12/2010.

Accession Number: 20101112-5129.

Comment Date: 5 p.m. Eastern Time on Wednesday, November 24, 2010.

Docket Numbers: RP11-1519-000.

Applicants: Discovery Gas Transmission LLC.

Description: Discovery Gas Transmission LLC submits tariff filing per 154.313: 2011 HMRE Filing to be effective 1/1/2011.

Filed Date: 11/12/2010.

Accession Number: 20101112-5131.

Comment Date: 5 p.m. Eastern Time on Wednesday, November 24, 2010.

Docket Numbers: RP11-1520-000.

Applicants: Destin Pipeline Company, L.L.C.

Description: Destin Pipeline Company, L.L.C. Annual Revenue Crediting Report.

Filed Date: 11/12/2010.

Accession Number: 20101112-5147.

Comment Date: 5 p.m. Eastern Time on Wednesday, November 24, 2010.

Docket Numbers: RP11-1521-000.

Applicants: Discovery Gas Transmission LLC.

Description: Discovery Gas Transmission LLC submits tariff filing per 154.203: NAESB V1.9—2nd Compliance to be effective 11/1/2010.

Filed Date: 11/12/2010.

Accession Number: 20101112-5148.

Comment Date: 5 p.m. Eastern Time on Wednesday, November 24, 2010.

Docket Numbers: RP11-1522-000.

Applicants: Transcontinental Gas Pipe Line Company, LLC.

Description: Transcontinental Gas Pipe Line Company, LLC submits tariff filing per 154.204: Clean-up Filing to be effective 12/13/2010.

Filed Date: 11/12/2010.

Accession Number: 20101112-5159.

Comment Date: 5 p.m. Eastern Time on Wednesday, November 24, 2010.

Docket Numbers: RP11-1523-000.

Applicants: MoGas Pipeline LLC.

Description: MoGas Pipeline LLC submits tariff filing per 154.203: Supplemental NAESB Compliance Filing to be effective 11/1/2010 under RP11-01523-000.

Filed Date: 11/12/2010.

Accession Number: 20101112-5170.

Comment Date: 5 p.m. Eastern Time on Wednesday, November 24, 2010.

Docket Numbers: RP11-1524-000.

Applicants: Total Peaking Services, L.L.C.

Description: Total Peaking Services, L.L.C. submits tariff filing per 154.203: Total Peaking Compliance Filing in Docket No. RP10-1259 to be effective 11/1/2010.

Filed Date: 11/12/2010.

Accession Number: 20101112-5228.

Comment Date: 5 p.m. Eastern Time on Wednesday, November 24, 2010.

Docket Numbers: RP11-1525-000.

Applicants: Northern Natural Gas Company.

Description: Northern Natural Gas Company submits Second Revised Sheet No. 67 et al to FERC Gas Tariff, Sixth Revised Volume No. 1, Original Volume No. 1A, to be effective 10/25/2010.

Filed Date: 11/12/2010.

Accession Number: 20101112-5239.

Comment Date: 5 p.m. Eastern Time on Wednesday, November 24, 2010.

Docket Numbers: RP11-1526-000.

Applicants: Pine Needle LNG Company, LLC.

Description: Pine Needle LNG Company, LLC Request for Waivers.

Filed Date: 11/12/2010.

Accession Number: 20101112-5276.

Comment Date: 5 p.m. Eastern Time on Wednesday, November 24, 2010.

Docket Numbers: RP11-1527-000.

Applicants: Dauphin Island Gathering Partners.

Description: Dauphin Island Gathering Partners submits tariff filing per 154.204: Negotiated Rates 2010-11-10 to be effective 11/16/2010.

Filed Date: 11/15/2010.

Accession Number: 20101115-5027.

Comment Date: 5 p.m. Eastern Time on Monday, November 29, 2010.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St. NE., Washington, DC 20426.

The filings in the above proceedings are accessible in the Commission's eLibrary system by clicking on the appropriate link in the above list. They are also available for review in the Commission's Public Reference Room in Washington, DC. There is an eSubscription link on the Web site that enables subscribers to receive email notification when a document is added to a subscribed docket(s). For assistance with any FERC Online service, please e-mail FERCOnlineSupport@ferc.gov. or call (866) 208-3676 (toll free). For TTY, call (202) 502-8659.

Nathaniel J. Davis, Sr.,
Deputy Secretary.

[FR Doc. 2010-29319 Filed 11-19-10; 8:45 am]

BILLING CODE 6717-01-P